DEPARTMENT OF COMMERCE

Census Bureau

Agency Information Collection Activities; Submission to the Office of Management and Budget (OMB) for Review and Approval; Comment Request; Annual Survey of School System Finances

AGENCY: U.S. Census Bureau, Commerce.

ACTION: Notice of information collection, request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for 60 days of public comment on the proposed revision of the Annual Survey of School System Finances, prior to the submission of the information collection request (ICR) to OMB for approval.

DATES: To ensure consideration, comments regarding this proposed information collection must be received on or before October 26, 2020.

ADDRESSES: Interested persons are invited to submit written comments by email to Thomas.J.Smith@census.gov. Please reference Annual Survey of School System Finances in the subject line of your comments. You may also submit comments, identified by Docket Number USBC-2020-0019, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to David Gromos, Chief, Education Finance Branch, 301-763-4659, and david.j.gromos@census.gov.

SUPPLEMENTARY INFORMATION:

I. Abstract

The U.S. Census Bureau plans to continue the current Office of Management and Budget clearance for the Annual Survey of School System Finances with revisions. The Annual Survey of School System Finances is the only comprehensive source of public elementary-secondary school system finance data collected on a nationwide scale using uniform definitions, concepts, and procedures. The collection covers the revenues, expenditures, debt, and assets of all public elementary-secondary school systems. This data collection has been coordinated with the National Center for Education Statistics (NCES). The NCES uses this collection to satisfy its need for school finance data.

The revisions will include the following: Expanding the federal revenue section to reflect recent changes in legislation and demand for information on other federal grants, renaming existing federal revenue data items to better match the federal grants that each are tied to, and adding new data items for special education expenditures in response to increasing demand by policymakers, researchers, and the general public. There is also the potential to add new data items in response to the COVID19 pandemic and CARES Act but a final decision has yet to be determined pending more research, including a webinar with state coordinators.

Fiscal data provided by respondents aid data users in measuring the effectiveness of resource allocation. The products of this data collection make it possible for data users to search a single database to obtain information on such things as per pupil expenditures and the percent of state, local, and federal funding for each school system. Elementary-secondary education related spending is the single largest financial activity of state and local governments. Education finance statistics provided by the Census Bureau allow for analyses of how public elementary-secondary school systems receive their funding and how they are spending their funds.

II. Method of Collection

A letter is mailed electronically at the beginning of each survey period to solicit the assistance of the state education agencies. This letter officially announces the opening of the data collection period and requests some administrative data, such as the estimated date of submission, any change to the reporting format from prior year, and updated contact information for the state coordinator.

The survey form (F-33) contains item descriptions and definitions of the elementary-secondary education finance items collected jointly by the Census Bureau and NCES. It is used primarily as a worksheet and instruction guide by the state education agencies providing school finance data centrally for the school systems in their respective states. The Census Bureau collects almost all of the finance data for local school systems from state education agency databases through central collection arrangements with the state education agencies. The states transfer this information in electronic format over the internet via file transfer protocol. The Census Bureau has also facilitated central collection of school system finance data by accepting data in multiple formats.

Supplemental forms are sent to local school systems in states where the state education agency cannot centrally provide information on assets (F-33-L1), indebtedness (F-33-L2), or both (F-33-L3).

III. Data

OMB Control Number: 0607-0700.

Form Number(s): F-33, Supplemental forms: F-33-L1, F-33-L2 and F-33-L3.

Type of Review: Regular submission, Request for a Revision of a Currently Approved Collection.

Affected Public: State and local governments.

Estimated Number of Respondents: F-33: 51, Supplement: 3,481.

Estimated Time per Response: F-33: 63 hrs., 11 minutes, Supplemental: 15 minutes.

Estimated Total Annual Burden Hours: 4,130.

Estimated Total Annual Cost to Public: $0 (This is not the cost of respondents' time, but the indirect costs respondents may incur for such things as purchases of specialized software or hardware needed to report, or expenditures for accounting or records maintenance services required specifically by the collection.)

Respondent's Obligation: Voluntary.

Legal Authority: Census: Title 13 U.S.C. Sections 8(b), 161, and 182. NCES: Title 20 U.S.C. Sections 9543-44.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2020-18553 Filed 8-24-20; 8:45 am]

BILLING CODE 3510-07-P